DEPARTMENT OF THE INTERIOR

National Park Service

[NPS-SERO-NCPTT-15151; PPWOCRADS2; PCU00PT14.GT0000]

Preservation Technology and Training Board: Meeting Notice

AGENCY: National Park Service, Interior.

ACTION: Notice of meeting.

SUMMARY: Notice is hereby given in accordance with the Federal Advisory Committee Act (5 U.S.C. Appendix 1-16) that the Preservation Technology and Training Board of the National Center for Preservation Technology and Training (NCPTT) will meet on March 31, 2014, and April 1, 2014.

DATES: The Board will meet on the following dates:

Monday, March 31, 2014, 9:00 a.m. to 5:00 p.m. (CDT)

Tuesday, April 1, 2014, 9:00 a.m. to 12:00 p.m. (CDT)

ADDRESSES: The Board will meet at the NCPTT Headquarters, 645 University Parkway, Natchitoches, Louisiana, 71457.

FOR FURTHER INFORMATION CONTACT: Persons wishing more information concerning this meeting, or who wish to submit written statements, may contact: Kirk A. Cordell, Executive Director, National Center for Preservation Technology and Training, National Park Service, 645 University Parkway, Natchitoches, LA 71457, by telephone (318) 356-7444. In addition to U.S. mail or commercial delivery, written comments may be sent by fax to Mr. Cordell at (318) 356-9119, or submitted electronically on the center Web site: ncptt@nps.gov.

SUPPLEMENTARY INFORMATION: The Board was established to provide leadership, policy advice, and professional oversight to the NCPTT in compliance with Section 404 of the National Historic Preservation Act of 1966, as amended, (16 U.S.C. 470x-2(e)).

The meeting agenda will include:

1. Review and Comment on NCPTT FY2013 Accomplishments, and Operational Priorities for FY 2014

2. FY 2014 and FY 2015 NCPTT Budget and Initiatives

3. Recent Research

4. Training Programs

Minutes of the meeting will be available for public inspection no later than 90 days after the meeting at the Office of the Executive Director, NCPTT, National Park Service, 645 University Parkway, Natchitoches, LA 71457, by telephone (318) 356-7444.

The Board meeting is open to the public. Facilities and space for accommodating members of the public are limited; however, visitors will be accommodated on a first-come, first-served basis. Any member of the public may file a written statement concerning any of the matters to be discussed by the Board. Before including your address, telephone number, email address, or other personal identifying information in your comment, you should be aware that your entire comment—including your personal identifying information—may be made publicly available at any time. While you may ask us in your comment to withhold your personal identifying information from public review, we cannot guarantee that we will be able to do so.

Dated: March 7, 2014.
Alma Ripps,
Chief, Office of Policy.

[FR Doc. 2014-05492 Filed 3-12-14; 8:45 am]

BILLING CODE 4312-52-P